GENERAL SERVICES ADMINISTRATION

41 CFR parts 300-3, 300-70, 300-80, 300-90, 301-10, 301-11, 301-13, 301-52, 301-70, 301-72, 301-73, 301-74, 301-75, Appendix A to Chapter 301, Appendix B to Chapter 301, Appendix E to Chapter 301, parts 302-1, 302-4, 302-5, 302-7, 302-8, 304-2, and 304-6

[FTR Case 2020-TA-01; Docket No. GSA-FTR-2020-0008, Sequence No. 1]

Federal Travel Regulation; Technical Amendments

AGENCY: Office of Government-wide Policy (OGP), General Services Administration (GSA).

ACTION: Final rule.

SUMMARY: GSA is amending the Federal Travel Regulation (FTR) to make necessary editorial changes.

DATES: This rule is effective August 3, 2020.

FOR FURTHER INFORMATION CONTACT: For clarification of content, contact Ms. Jill Denning, Program Analyst, Office of Government-wide Policy, at 202-208-7642. Contact the Regulatory Secretariat Division (MVCB), 1800 F Street NW, 2nd Floor, Washington, DC 20405, 202-501-4755, for information pertaining to status or publication schedules. Please cite FTR Case 2020-TA-01, Technical Amendments.

SUPPLEMENTARY INFORMATION:

A. Background

The General Services Administration is issuing a final rule to make technical amendments to various provisions of the Federal Travel Regulation. These technical amendments correct hyperlinks in accordance with Office of Management and Budget Memorandum M-15-13 “Policy to Require Secure Connections across Federal websites and Web Services” (June 5, 2015), format discrepancies, update legal citations, and make miscellaneous/editorial revisions.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This final rule is not a significant regulatory action, and therefore, is not subject to review under section 6(b) of E.O. 12866, Regulatory Planning and Review, dated September 30, 1993. GSA has further determined that this final rule is not a major rule under 5 U.S.C. 804.

C. Executive Order 13771

This final rule is not subject to the requirements of E.O. 13771 (82 FR 9339, February 3, 2017) because it is related to agency organization, management, or personnel and is not a significant regulatory action under E.O. 12866.

D. Regulatory Flexibility Act

This final rule will not have a significant economic impact on a substantial number of small entities within the meaning of the Regulatory Flexibility Act, 5 U.S.C. 601, et seq. This final rule is also exempt from the Administrative Procedures Act pursuant to 5 U.S.C. 553(a)(2) because this final rule involves matters relating to agency management or personnel.

E. Paperwork Reduction Act

The Paperwork Reduction Act does not apply because the changes to the FTR do not impose recordkeeping or information collection requirements, or the collection of information from offerors, contractors, or members of the public that require the approval of the Office of Management and Budget (OMB) under 44 U.S.C. 3501, et seq.

F. Small Business Regulatory Enforcement Fairness Act

This final rule is also exempt from Congressional review prescribed under 5 U.S.C. 801. This final rule is not a major rule under 5 U.S.C. 804.

List of Subjects

41 CFR Parts 300-3, 300-80, 301-11, 301-52, 301-74, 301-75, Appendices A, B, and E to Chapter 301; and Parts 302-1, 302-4, 302-5, 302-7, 302-8, 304-2, and 304-6

Government employees, Travel and transportation expenses.

41 CFR Parts 300-70, 300-90

Government employees, Reporting and recordkeeping requirements, Travel and transportation expenses.

41 CFR Part 301-10

Common carriers, Government employees, Government property, Travel and transportation expenses.

41 CFR Part 301-13

Government employees, Individuals with disabilities, Travel and transportation expenses.

41 CFR Part 301-70

Administrative practice and procedure, Government employees, Individuals with disabilities, Travel and transportation expenses.

41 CFR Part 301-72

Common carriers, Government employees, Travel and transportation expenses.

41 CFR Parts 301-73

Government contracts, Travel and transportation expenses.

Emily W. Murphy,
Administrator.

For reasons set forth in the preamble, GSA amends 41 CFR parts 300-3, 300-70, 300-80, 300-90, 301-10, 301-11, 301-13, 301-52, 301-70, 301-72, 301-73, 301-74, 301-75, appendix A to Chapter 301, appendix B to Chapter 301, appendix E to Chapter 301, parts 302-1, 302-4, 302-5, 302-7, 302-8, 304-2, and 304-6 as set forth below:

PART 300-3—GLOSSARY OF TERMS

1. The authority citation for 41 CFR part 300-3 continues to read as follows:

Authority: 5 U.S.C. 5707; 40 U.S.C. 121(c); 49 U.S.C. 40118; 5 U.S.C. 5738; 5 U.S.C. 5741-5742; 20 U.S.C. 905(a); 31 U.S.C. 1353; E.O 11609, as amended, 3 CFR, 1971-1975 Comp., p. 586, Office of Management and Budget Circular No. A-126, revised May 22, 1992.

2. Amend § 300-3.1 by revising paragraph (4) in the definition of “Professional Books, Papers and Equipment (PBP&E)” to read as follows:

§ 300-3.1 What do the following terms mean?

* * * * *

Professional Books, Papers and Equipment (PBP&E)* * *

(4) Communications equipment used by the employee in association with DoDI 4650.02, Military Auxiliary Radio System (MARS).

* * * * *

PART 300-70—AGENCY REPORTING REQUIREMENTS

3. The authority citation for part 300-70 continues to read as follows:

Authority: 5 U.S.C. 5707; 5 U.S.C. 5738; 5 U.S.C. 5741-5742; 20 U.S.C. 905(a); 31 U.S.C. 1353; 40 U.S.C. 121(c); 49 U.S.C. 40118; E.O. 11609, as amended, 3 CFR, 1971-1975 Comp., p. 586.

§ 300-70.2 [Amended]

4. Amend § 300-70.2 by removing “www.gsa.gov/trip” and adding “https://www.gsa.gov/trip” in its place.

§ 300-70.101 [Amended]

5. Amend § 300-70.101 by removing “www.gsa.gov/bulletin” and adding “https://www.gsa.gov/ftrbulletins” in its place.

PART 300-80—RELOCATION EXPENSES TEST PROGRAMS

6. The authority citation for part 300-80 continues to read as follows:

Authority: 5 U.S.C. 5707, 5738, and 5739.

§ 300-80.3 [Amended]

7. Amend § 300-80.3 by removing “(Attention: MTT)” and adding “, Office of Government-wide Policy” in its place.

§ 300-80.8 [Amended]

8. Amend § 300-80.8 by removing “(Attention: MTT)” and adding “, Office of Government-wide Policy” in its place.

§ 300-80.9 [Amended]

9. Amend § 300-80.9 by removing from paragraphs (b)(1) and (b)(2) “Governmentwide Policy, Office of Travel, Transportation and Asset Management (Attention MTT)” and adding “Government-wide Policy, 1800 F Street, NW” in its place.

PART 300-90—TELEWORK EXPENSES TEST PROGRAMS

10. The authority citation for part 300-90 continues to read as follows:

Authority: 5 U.S.C. 5707 and 5711.

§ 300-90.3 [Amended]

11. In § 300-90.3 amend the introductory text by removing “(Attention: MA)” and adding “, Office of Government-wide Policy” in its place.

§ 300-90.8 [Amended]

12. In § 300-90.8 amend the introductory text by removing “(Attention: MA)” and adding “, Office of Government-wide Policy” in its place.

§ 300-90.9 [Amended]

13. Amend § 300-90.9 by removing from paragraphs (b)(1) and (b)(2) “Office of Asset and Transportation Management (Attention: MA)” and adding “1800 F Street NW” in its place.

PART 301-10—TRANSPORTATION EXPENSES

14. The authority citation for part 301-10 continues to read as follows:

Authority: 5 U.S.C. 5707, 40 U.S.C. 121(c); 49 U.S.C. 40118; Office of Management and Budget Circular No. A-126, “Improving the Management and Use of Government Aircraft.” Revised May 22, 1992.

§ 301-10.106 [Amended]

15. Amend § 301-10.106 by removing “http://www.gsa.gov/citypairs” and adding “https://www.gsa.gov/citypairs” in its place.

§ 301-10.135 [Amended]

16. Amend § 301-10.135 by:

a. In paragraph (b)(1) removing “http://www.gsa.gov/openskies” and adding “https://www.gsa.gov/openskies” in its place;

b. In paragraph (b)(2)removing “www.gsa.gov/bulletin” and adding “https://www.gsa.gov/ftrbulletins” in its place; and

c. In paragraph (c) removing “, United States Information Agency, United States International Development Cooperation Agency, or the Arms Control Disarmament Agency” and adding “or the United States Agency for International Development” in its place.

§ 301-10.180 [Amended]

17. Amend § 301-10.180 by removing “App. Sec. 1241” and adding “§ 55302” in its place.

§ 301-10.261 [Amended]

18. Amend § 301-10.261 by removing from paragraph (a)(2) “from the General Services Administration, Office of Governmentwide Policy, MTA, 1800 F Street, NW, Washington, DC 20405” and adding “by emailing aviationpolicy@gsa.gov” in its place.

§ 301-10.303 [Amended]

19. Amend § 301-10.303 by removing “http://www.gsa.gov/mileage” and adding “https://www.gsa.gov/mileage” in its place.

§ 301-10.310 [Amended]

20. Amend § 301-10.310 by removing “http://www.gsa.gov/ftrbulletins” and adding “https://www.gsa.gov/ftrbulletins” in its place.

PART 301-11—PER DIEM EXPENSES

21. The authority citation for part 301-11 continues to read as follows:

Authority: 5 U.S.C. 5707.

§ 301-11.6 [Amended]

22. Amend § 301-11.6 by:

a. In paragraph (a), in the second row of the third column of the table, removing “Office of Governmentwide Policy, Office of Transportation and Personal Property, Travel Management Policy, and available on the internet at http://www.gsa.gov/perdiem” and adding “Office of Government-wide Policy, and available at https://www.gsa.gov/perdiem” in its place;

b. Remove from paragraph (b), in the third row of the third column of the table, removing “http://www.defensetravel.dod.mil/site/perdiemCalc.cfm” and adding “https://www.defensetravel.dod.mil/site/perdiemCalc.cfm” in its place; and

c. In paragraph (c), in the fourth row of the third column of the table, removing “www.state.gov” and adding “https://aoprals.state.gov/web920/per_diem.asp” in its place.

§ 301-11.11 [Amended]

23. Amend § 301-11.11 by removing from paragraph (c) “http://www.fedrooms.com” and adding “https://www.fedrooms.com” in its place.

§ 301-11.18 [Amended]

24. Amend § 301-11.18 by removing from paragraph (a) “www.gsa.gov/mie” and adding “https://www.gsa.gov/mie” in its place.

§ 301-11.26 [Amended]

25. Amend § 301-11.26 by:

a. In the first column of the table, removing “Office of Governmentwide Policy, Attn: Travel Policy (MTT)” and adding “Office of Government-wide Policy” in its place; and

b. In second row of the second column of the table, removing “4601 N Fairfax Dr., Suite 800, Arlington, VA 22203” and adding “4800 Mark Center Drive, Suite 04J325-01, Alexandria, VA 22350-9000” in its place.

§ 301-11.29 [Amended]

26. Amend § 301-11.29 by removing “https://smartpay.gsa.gov/about-gsa-smartpay/tax-information/state-response-letter” and adding “https://smartpay.gsa.gov/content/state-tax-information” in its place.

PART 301-13—TRAVEL OF AN EMPLOYEE WITH SPECIAL NEEDS

27. The authority citation for part 301-13 continues to read as follows:

Authority: 5 U.S.C. 5707.

§ 301-13.3 [Amended]

28. Amend § 301-13.3 by removing from the note to paragraph (g) “http://www.opm.gov/disability/mngr_6-01-B.asp” and adding “https://www.opm.gov/FAQs” in its place.

PART 301-52—CLAIMING REIMBURSEMENT

29. The authority citation for part 301-52 continues to read as follows:

Authority: 5 U.S.C. 5707; 40 U.S.C. 121(c); Sec. 2, Pub. L. 105-264, 112 Stat. 2350 (5 U.S.C. 5701 note).

30. Amend § 301-52.4 by revising paragraph (b)(3) to read as follows:

§ 301-52.4 What must I provide with my travel claim?

* * * * *

(b) * * *

(3) Receipts must be retained for 6 years as prescribed by the National Archives and Records Administration (NARA) under General Records Schedule 1.1, item 010 (https://www.archives.gov/files/records-mgmt/grs/grs01-1.pdf).

§ 301-52.11 [Amended]

31. In § 301-52.11 amend paragraph (g) by removing “GSA Board of Contract Appeals” and adding “Civilian Board of Contract Appeals” in its place.

PART 301-70—INTERNAL POLICY AND PROCEDURE REQUIREMENTS

32. The authority citation for part 301-70 continues to read as follows:

Authority: 5 U.S.C. 5707; 40 U.S.C. 121(c); Sec. 2, Pub. L. 105-264, 112 Stat. 2350 (5 U.S.C. 5701, note); OMB Circular No. A-126, revised May 22, 1992; OMB Circular No. A-123, Appendix B, revised January 15, 2009.

§ 301-70.400 [Amended]

33. Amend § 301-70.400 by removing “29 U.S.C. 701-796l” and adding “29 U.S.C. 701, et seq.” in its place.

§ 301-70.702 [Amended]

34. Amend § 301-70.702 by removing “(Attention: MAE)” and adding “, Office of Government-wide Policy” in its place.

35. Amend § 301-70.709 by revising paragraphs (a) and (j) to read as follows:

§ 301-70.709 What can we do to reduce travel charge card delinquencies?

* * * * *

(a) Agency travel program coordinators must be trained and aware of their responsibilities and the delinquency management tools available under your agreement with the travel charge card contractor.

* * * * *

(j) Information on travel cardholder training is available at https://smartpay.gsa.gov/content/training.

* * * * *

36. Amend § 301-70.802 by revising the second sentence of paragraph (a)(3) and adding a third sentence to read as follows:

§ 301-70.802 Must we ensure that travel on Government aircraft is the most cost-effective alternative?

(a) * * *

(3) * * * Additional information on costs included in the cost comparison may be found in the “U.S. Government Aircraft Cost Accounting Guide,” published by the General Services Administration, Office of Government-wide Policy. To obtain a copy of the guide, please contact aviationpolicy@gsa.gov.

* * * * *

§ 301-70.902 [Amended]

37. Amend § 301-70.902 by removing “10 U.S.C. 4744” and adding “10 U.S.C. 2648” in its place.

38. Amend § 301-70.903 by revising the fourth sentence and adding a fifth sentence to read as follows:

§ 301-70.903 What are our responsibilities for ensuring that Government aircraft are the most cost-effective alternative for travel?

* * * For guidance on how and when to calculate the cost of a trip on a Government aircraft, see the “U.S. Government Aircraft Cost Accounting Guide,” published by the General Services Administration, Office of Government-wide Policy. To obtain a copy of the guide, please contact aviationpolicy@gsa.gov.

39. Revise § 301-70.906 to read as follows:

§ 301-70.906 Must we report use of our Government aircraft to carry senior Federal officials and non-Federal travelers?

Yes, except when the trips are classified, you must report to the General Services Administration, Office of Government-wide Policy, all uses of your aircraft for travel by any senior Federal official or non-Federal traveler, by using an electronic reporting tool found at “https://www.gsa.gov/sftr”, unless travel is authorized under 10 U.S.C. 2648 and regulations implementing that statute.

40. Amend Note to § 301-70.907 by revising the fourth sentence and adding a fifth sentence to read as follows:

§ 301-70.907 What information must we report on the use of Government aircraft to carry senior Federal officials and non-Federal travelers and when must it be reported?

* * * * *

Note to § 301-70.907: * * * For more information on calculating costs, see the “U.S. Government Aircraft Cost Accounting Guide,” published by the General Services Administration, Office of Government-wide Policy. To obtain a copy of the guide, please contact aviationpolicy@gsa.gov.

PART 301-72—AGENCY RESPONSIBILITIES RELATED TO COMMON CARRIER TRANSPORTATION

41. The authority citation for part 301-72 continues to read as follows:

Authority: 5 U.S.C. 5707; 31 U.S.C. 3726; 40 U.S.C. 121(c).

§ 301-72.301 [Amended]

42. Amend § 301-72.301 by removing from paragraphs (a) and (c) “http://fss.gsa.gov/transtrav/usgpth.pdf” and adding “https://www.gsa.gov/transaudits” in its place.

PART 301-73—TRAVEL PROGRAMS

43. The authority citation for part 301-73 continues to read as follows:

Authority: 5 U.S.C. 5707, 40 U.S.C. 121(c).

§ 301-73.1 [Amended]

44. In § 301-73.1 amend paragraph (d) by removing “Fedrooms” and adding “Fedrooms ®” in its place.

§ 301-73.106 [Amended]

45. In § 301-73.106, amend paragraph (a)(2) by removing “Fedrooms” and adding “Fedrooms ®” in its place.

PART 301-74—CONFERENCE PLANNING

46. The authority citation for part 301-74 continues to read as follows:

Authority: 5 U.S.C. 5707.

§ 301-74.12 [Amended]

47. Amend § 301-74.12 by:

a. In paragraph (a) removing “see 40 U.S.C. 34” and adding “see 40 U.S.C. 8141” in its place; and

b. In paragraph (b) removing “http://www.gsa.gov/attachments/GSA_PUBLICATIONS/pub/CustomerGuidebookmarkedversion.pdf” and adding “https://www.gsa.gov/cdnstatic/Guide_to_Real_Property_508.pdf” in its place.

PART 301-75—PRE-EMPLOYMENT INTERVIEW TRAVEL

48. The authority citation for part 301-75 continues to read as follows:

Authority: 5 U.S.C. 5707.

§ 301-75.202 [Amended]

49. Amend § 301-75.202 by removing from the third row of the second column of the table, “http://fss.gsa.gov/transtrav/usgpth.pdf” and adding “https://www.gsa.gov/transaudits” in its place.

Appendix A to Chapter 301 [Amended]

50. Amend Appendix A to Chapter 301 by removing “http://www.gsa.gov/perdiem” and adding “https://www.gsa.gov/perdiem” in its place.

Appendix B to Chapter 301 [Amended]

51. Amend Appendix B to Chapter 301 by removing “http://www.gsa.gov/mie” and adding “https://www.gsa.gov/mie” in its place.

Appendix E to Chapter 301 [Amended]

52. Amend Appendix E to Chapter 301, Food and Drink, Meals section, fourth bullet point, by removing “5 U.S.C. 4104(4)” and adding “5 U.S.C. 4109” in its place.

PART 302-1—GENERAL RULES

53. The authority citation for Part 302-1 continues to read as follows:

Authority: 5 U.S.C. 5738; 20 U.S.C. 905(a).

§ 302-1.2 [Amended]

54. In § 302-1.2 amend paragraph (d) by removing “38 U.S.C. 235” and adding “38 U.S.C. 707” in its place.

PART 302-4—ALLOWANCES FOR SUBSISTENCE AND TRANSPORTATION

55. The authority citation for Part 302-4 continues to read as follows:

Authority: 5 U.S.C. 5738; 20 U.S.C. 905(a); E.O. 11609, 36 FR 13747, 3 CFR, 1971-1975 Comp., p. 586.

§ 302-4.200 [Amended]

56. Amend § 302-4.200 by removing “http://www.gsa.gov/perdiem” and adding “https://www.gsa.gov/perdiem” in its place.

§ 302-4.300 [Amended]

57. Amend § 302-4.300 by removing “www.irs.gov” and adding “https://www.irs.gov” in its place.

PART 302-5—ALLOWANCE FOR HOUSEHUNTING TRIP EXPENSES

58. The authority citation for Part 302-5 continues to read as follows:

Authority: 5 U.S.C. 5738; 20 U.S.C. 905(a); E.O. 11609, as amended, 3 CFR, 1971-1975 Comp., p. 586.

§ 302-5.13 [Amended]

59. Amend § 302-5.13 by removing from paragraphs (a), (b)(1), and (b)(2), in the third row of the second column of the table, “http://www.gsa.gov/perdiem” and adding “https://www.gsa.gov/perdiem” in its place.

PART 302-7—TRANSPORTATION AND TEMPORARY STORAGE OF HOUSEHOLD GOODS, PROFESSIONAL BOOKS, PAPERS, AND EQUIPMENT, (PBP&E) AND BAGGAGE ALLOWANCE

60. The authority citation for Part 302-7 continues to read as follows:

Authority: 5 U.S.C. 5738; 20 U.S.C. 905(a); E.O. 11609, as amended, 3 CFR, 1971-1975 Comp., p. 586.

§ 302-7.101 [Amended]

61. Amend § 302-7.101 by removing “www.gsa.gov/relocationpolicy” and adding “https://www.gsa.gov/relocationpolicy” in its place.

§ 302-7.110 [Amended]

62. Amend § 302-7.110 by removing “www.gsa.gov/relocationpolicy” and adding “https://www.gsa.gov/relocationpolicy” in its place.

PART 302-8—ALLOWANCE FOR EXTENDED STORAGE OF HOUSEHOLD GOODS (HHG)

63. The authority citation for Part 302-8 continues to read as follows:

Authority: 5 U.S.C. 5738; 20 U.S.C. 905(a); E.O. 11609, 36 FR 13747, 3 CFR, 1971-1975 Comp., p. 586.

64. Amend § 302-8.300 by revising paragraph (b) to read as follows:

§ 302-8.300 Under what authority am I provided storage during school recess?

* * * * *

(b) Regulations. See the DoD Joint Travel Regulations (JTR), published by the Per Diem, Travel and Transportation Allowance Committee and available at https://www.defensetravel.dod.mil/site/travelreg.cfm.

PART 304-2—DEFINITIONS

65. The authority citation for Part 304-2 continues to read as follows:

Authority: 5 U.S.C. 5707; 31 U.S.C. 1353.

66. Amend § 304-2.1 by revising the last two sentences of the definition of “Travel, subsistence, and related expenses (travel expenses)” to read as follows:

§ 304-2.1 What definitions apply to this chapter?

* * * * *

Travel, subsistence, and related expenses (travel expenses) * * * The Foreign Affairs Manual is available at https://fam.state.gov. The Joint Travel

Regulations are available at https://www.defensetravel.dod.mil/site/travelreg.cfm.

PART 304-6—PAYMENT GUIDELINES

67. The authority citation for part 304-6 continues to read as follows:

Authority: 5 U.S.C. 5707; 31 U.S.C. 1353.

§ 302-6.2 [Amended]

68. Amend § 304-6.2 by removing from the last sentence “Parts L and Q,”.

§ 302-6.6 [Amended]

69. Amend § 304-6.6 by:

a. In paragraph (c), removing “www.gsa.gov/mie” and adding “https://www.gsa.gov/mie” in its place; and

b. In paragraph (e) removing “http://www.gsa.gov/perdiem” and adding “https://www.gsa.gov/perdiem” in its place.

[FR Doc. 2020-12788 Filed 7-1-20; 8:45 am]

BILLING CODE 6820-14-P